DEPARTMENT OF HEALTH AND HUMAN SERVICES

Health Resources and Services Administration

Advisory Committee; Notice of Meeting

In accordance with section 10(a)(2) of the Federal Advisory Committee Act (Public Law 92-463), announcement is made of the following National Advisory body scheduled to meet during the month of December 2000.

Name: Advisory Committee on Training in Primary Care Medicine and Dentistry.

Date and Time: December 7, 2000, 8 a.m.-5 p.m.; December 8, 2000; 8 a.m.-2 p.m.

Place: The Madison Hotel, 15th and M Streets, NW., Washington, D.C. 20005.

The meeting is open to the public.

Purpose: The Advisory Committee shall (1) provide advice and recommendations to the Secretary concerning policy and program development and other matters of significance concerning activities under section 747 of the Public Health Service Act; and (2) prepare and submit to the Secretary, the Committee on Health, Education, Labor, and Pensions (formerly the Committee on Labor and Human Resources) of the Senate, and the Committee on Commerce of the House of Representatives a report describing the activities of the Advisory Committee, including findings and recommendations made by the Committee concerning the activities under section 747 of the PHS Act. The Advisory Committee will meet twice each year and submit its first report to the Secretary and the Congress by November 2001.

Agenda: Discussion of the focus of the programs and activities authorized under section 747 of the Public Health Service Act. Review the work completed to date by the two workgroups. Address funding issues and recommendations for the future. Finalization of an outline and specific content areas to be included in the Committee's first report.

Anyone interested in obtaining a roster of members, minutes of the meeting, or other relevant information should write or contact Dr. Stan Bastacky, Deputy Executive Secretary, Advisory Committee on Training in Primary Care Medicine and Dentistry, Parklawn Building, Room 9A-21, 5600 Fishers Lane, Rockville, Maryland 20857, phone (301) 443-6326, e-mail sbastacky@hrsa.gov. The web address for the Advisory Committee is http://158.72.83.3/bhpr/dm/new_advisory _committee_on _primar.htm.

Dated: November 21, 2000.
James J. Corrigan,
Associate Administrator for Management and Program Support.

[FR Doc. 00-30237 Filed 11-27-00; 8:45 am]

BILLING CODE 4160-15-P